DEPARTMENT OF THE TREASURY

31 CFR Part 103

RIN 1506-AA67

Financial Crimes Enforcement Network; Amendment to the Bank Secrecy Act Regulations—Imposition of Special Measure against Infobank as a Financial Institution of Primary Money Laundering Concern

AGENCY: Financial Crimes Enforcement Network (FinCEN), Treasury.

ACTION: Proposed rule; reopening of comment period.

SUMMARY: On August 24, 2004, FinCEN requested public comment on a proposed rulemaking to impose a special measure against Infobank as a financial institution of primary money laundering concern, pursuant to the authority contained in 31 U.S.C. 5318A of the Bank Secrecy Act. FinCEN is extending the comment period on the proposal until November 1, 2004. This action will allow interested persons additional time to analyze the issues and prepare their comments.

DATES: Written comments on the notice of proposed rulemaking (69 FR 51973) must be submitted on or before November 1, 2004.

ADDRESSES: You may submit comments, identified by RIN 1506-AA67, by any of the following methods:

• Federal e-rulemaking portal: http://www.regulations.gov. Follow the instructions for submitting comments.

• E-mail: regcomments@fincen.treas.gov. Include RIN 1506-AA67 in the subject line of the message.

• Mail: FinCEN, P.O. Box, 39, Vienna, VA 22183. Include RIN 1506-AA67 in the body of the text.

Instructions: It is preferable for comments to be submitted by electronic mail because paper mail in the Washington, DC, area may be delayed. Please submit comments by one method only. All submissions received must include the agency name and the Regulatory Information Number (RIN) for this proposed rulemaking. All comments received will be posted without change to http://www.fincen.gov, including any personal information provided. Comments may be inspected at FinCEN between 10 a.m. and 4 p.m., in the FinCEN reading room in Washington, DC. Persons wishing to inspect the comments submitted must request an appointment by telephoning (202) 354-6400 (not a toll-free number).

FOR FURTHER INFORMATION CONTACT: Office of Regulatory Programs, FinCEN, at (202) 354-6400 or Office of Chief Counsel, FinCEN, at (703) 905-3590 (not toll-free numbers).

SUPPLEMENTARY INFORMATION: On August 24, 2004, FinCEN requested comment on a proposal to impose the special measure authorized by 31 U.S.C. 5318A(b)(5) against Infobank. That special measure authorizes the prohibition of the opening or maintaining of correspondent or payable-through accounts by any domestic financial institution or domestic financial agency for, or on behalf of, a foreign financial institution found to be of primary money laundering concern.

The proposal was published for a 30-day comment period, which closed September 23, 2004. In order to ensure that as many interested parties as possible have time to comment on the proposal, the comment period is being extended to November 1, 2004.

Dated: September 23, 2004.
William J. Fox,
Director, Financial Crimes Enforcement Network.

[FR Doc. 04-21878 Filed 9-29-04; 8:45 am]

BILLING CODE 4810-02-P